ENVIRONMENTAL PROTECTION AGENCY

[SWH-FRL-6960-9]

Agency Information Collection Activities: Continuing Collection; Comment Request; Identification, Listing and Rulemaking Petitions Information Collection Request

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): Identification, Listing and Rulemaking Petitions, ICR Number 1189.09, OMB Control Number 2050-0053, Expiration Date 9/30/01. Before submitting the ICR to OMB for review and approval, EPA is soliciting comments on specific aspects of the proposed information collection as described below.

DATES: Comments must be submitted on or before June 4, 2001.

ADDRESSES: Commenters must send an original and two copies of their comments referencing docket number F-2001-IL2P-FFFFF to: RCRA Docket and Information Center, Office of Solid Waste (5305G), U.S. Environmental Protection Agency, Ariel Rios Building, 1200 Pennsylvania Avenue, N.W., Washington, DC 20460. Hand deliveries of comments should be made to the Arlington, VA, address below. Comments may also be submitted electronically through the Internet to: rcradocket@epa.gov. Comments in electronic format should also be identified by the docket number F-2001-IL2P-FFFFF. All electronic comments must be submitted as an ASCII file avoiding the use of special characters and any form of encryption.

The official record for this action will be kept in paper form. Accordingly, EPA will transfer all comments received electronically into paper form and place them in the official record, which will also include all comments submitted directly in writing. The official record is the paper record maintained in the RCRA Docket and Information Center.

Commenters should not submit any confidential business information (CBI) electronically. An original and two copies of CBI must be submitted under separate cover to: RCRA CBI Document Control Officer, Office of Solid Waste (5305W), U.S. Environmental Protection Agency, 1200 Pennsylvania Avenue, NW., Washington, DC 20460.

Public comments and supporting materials are available for viewing in the RCRA Docket and Information Center, located at Crystal Gateway I, First Floor, 1235 Jefferson Davis Highway, Arlington, VA. The RCRA Docket and Information Center is open from 9 a.m. to 4 p.m., Monday through Friday, excluding federal holidays. To review docket materials, it is recommended that the public make an appointment by calling (703) 603-9230. The public may copy a maximum of 100 pages from any regulatory docket at no charge. Additional copies cost $0.15/page. This notice and the supporting documents that detail the Identification, Listing and Rulemaking Petitions ICR are available electronically. See the SUPPLEMENTARY INFORMATION section for information on accessing them.

FOR FURTHER INFORMATION CONTACT: For detailed information on specific aspects of this rulemaking, contact James Michael by phone at (703) 308-8610, by facsimile at (703) 308-0522, by mail at the Office of Solid Waste (5304W), U.S. Environmental Protection Agency, Ariel Rios Building, 1200 Pennsylvania Avenue, NW., Washington, DC 20460 or by e-mail at michael.james@epa.gov. For general information, contact the RCRA Call Center at (800) 424-9346 or TDD (800) 553-7672 (hearing impaired). In the Washington, DC metropolitan area, call (703) 412-9810 or TDD (703) 412-3323.

SUPPLEMENTARY INFORMATION: Internet Availability: Today's notice and the supporting documents that detail the Identification, Listing and Rulemaking Petitions ICR are available on the Internet. Follow these instructions to access the information electronically: WWW:http://www.epa.gov/epaoswer/osw/hazwaste/id/petition/ index.htm

FTP: ftp.epa.gov.

Login: anonymous.

Password: your Internet address.

Path:/pub/epaoswer.

Affected entities: Entities potentially affected by this action are rulemaking petitioners under 40 CFR 260.20(b), 260.21 and 260.22; owners and operators of facilities requesting a variance from classification as a solid waste under 40 CFR 260.30 -260.31 and 260.33; owners or operators of enclosed flame combustion devices requesting a variance under 40 CFR 260.32-260.33; generating facilities seeking a hazardous waste exclusion for certain types of wastes under 40 CFR 261.3 and 261.4; and generators and treatment, storage and disposal facilities requesting exemptions from listing as F037 and F038 wastes under 40 CFR 261.31(b)(2)(ii).

Title: Identification, Listing, and Rulemaking Petitions ICR Number 1189.09, expires September 30, 2001.

Abstract: Under 40 CFR 260.20(b), all rulemaking petitioners must submit basic information with their demonstrations, including name, address, and statement of interest in the proposed action. Under section 260.21, all petitioners for equivalent testing or analytical methods must include specific information in their petitions and demonstrate to the satisfaction of the Administrator that the proposed method is equal to or superior to the corresponding method in terms of its sensitivity, accuracy, and reproducibility. Under section 260.22, petitions to amend part 261 to exclude a waste produced at a particular facility (more simply, to delist a waste) must meet extensive informational requirements. When a petition is submitted, the Agency reviews materials, deliberates, publishes its tentative decision in the Federal Register, and requests public comment. EPA also may hold informal public hearings (if requested by an interested person or at the discretion of the Administrator) to hear oral comments on its tentative decision. After evaluating all comments, EPA publishes its final decision in the Federal Register.

40 CFR 260.30 -260.31, and 260.33 comprise the standards, criteria, and procedures for variances from classification as a solid waste for three types of materials, materials that are collected speculatively without sufficient amounts being recycled; materials that are reclaimed and then reused within the original primary production process in which they were generated; and materials which have been reclaimed, but must be reclaimed further before the materials are completely recovered. Under 40 CFR 260.32 and 260.33 a variance is available to owners or operators of enclosed flame combustion devices for classification as a boiler.

40 CFR 261.3 and 261.4 contain provisions that allow generators to obtain a hazardous waste exclusion for certain types of wastes. Facilities applying for these exclusions must either submit supporting information or keep detailed records. Under section 261.3(a)(2)(iv), generators may obtain a hazardous waste exclusion for wastewater mixtures subject to Clean Water Act regulation. Under section 261.3(c)(2)(ii)(C), generators may obtain an exclusion for certain non-wastewater residues resulting from high metals recovery processing (HTMR) or K061, K062 and F006 waste. In addition, under section 261.4(b)(6), generators of chromium-containing waste may obtain a hazardous waste exclusion under certain conditions.

Also addressed under this section is the shipment of samples between generators and laboratories for the purpose of testing to determine its characteristics or composition. Sample handlers who are not subject to DOT or USPS shipping requirements must comply with the information requirements of section 261.4(d)(2). When intended for treatability studies, hazardous waste otherwise subject to regulation under Subtitle C of RCRA is exempted from these regulations, provided that the requirements in section 261.4(e)-(f) are met, including the following information requests: initial notification, recordkeeping, reporting, and final notification. In addition, generators and collectors of treatability study samples also may request quantity limit increases and time extensions, as specified in section 261.4(e)(3).

40 CFR 261.31(b)(2)(ii) governs procedures and informational requirements for generators and treatment, storage and disposal facilities to obtain exemptions from listing as F037 and F038 wastes. Also under this section are regulations promulgated in 1990 under section 261.35(b) and (c) governing procedures and information requirements for the cleaning or replacement of all process equipment that may have come into contact with chlorophenolic formulations or constituents thereof, including, but not limited to, treatment cylinders, sumps, tanks, piping systems, drip pads, fork lifts, and trams.

EPA anticipates that some data provided by respondents will be claimed as Confidential Business Information (CBI). Respondents may make a business confidentiality claim by marking the appropriate data as CBI. Respondents may not withhold information from the Agency because they believe it is confidential. Information so designated will be disclosed by EPA only to the extent set forth in 40 CFR part 2.

An agency may not conduct or sponsor, and a person is not required to respond to, a collection of information unless it displays a currently valid OMB control number. The OMB control numbers for EPA's regulations are listed in 40 CFR part 9, and in 48 CFR Chapter 15.

EPA would like to solicit comments to: (i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology; e.g., permitting electronic submission of responses.

Burden Statement: Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

EPA estimates that the total respondent burden for this ICR (#1189.09) is 20,802 hours per year at a cost of $2,046,564. This is an increase of 691 hours from the previously approved ICR (#1189.06). This increase in burden occurred for several reasons.

Based on its consultations with the EPA regions and authorized States, EPA decreased some of its estimates of the number of notifications and other paperwork submitted under the exclusions/exemptions at 40 CFR 261.3 and 261.4. In addition, EPA decreased its estimate of the number of facilities reading the parts 260 and 261 regulations. In ICR #1189.06, EPA estimated that 330 facilities would read the regulations each year; this estimate included facilities actively preparing/submitting paperwork, as well as those keeping records in support of their exemptions/exclusions. In this ICR, EPA revised this assumption, assuming that only facilities actively preparing/submitting paperwork would read the regulations (126 facilities/yr); facilities that already have been granted an exclusion or exemption likely would not re-read the regulations for that waste. These decreased universe estimates led to a decrease in the burdens for the corresponding paperwork requirements.

However, the burden decrease described above was offset because EPA increased the number of delisting petitions (from 15 per year in ICR #1189.06 to 20 per year in this ICR) and petitions for a variance from a solid waste (from 15 per year in ICR #1189.06 to 30 per year in this ICR). Again, EPA ascertained these estimates based on consultations with EPA regions and authorized States. EPA estimates that operation and maintenance (O&M) costs will be incurred for various activities. The largest of these are for sampling wastes for a delisting petition ($28,006), and preparing a statement as part of a rulemaking petition ($9,479). Total O&M costs for this ICR are $886,315 per year. EPA estimates that there will be no capital costs incurred. Finally, EPA estimates that the average annual burden per respondent ranges from 3.5 hours (preparation of a nonwastwater exemption) to 748 hours (preparation of a delisting petition).

Dated: March 26, 2001.
Elizabeth A. Cotsworth,
Director, Office of Solid Waste.

[FR Doc. 01-8130 Filed 4-2-01; 8:45 am]

BILLING CODE 6560-50-P